DEPARTMENT OF DEFENSE

Office of the Secretary

[Transmittal No. 25-50]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-50 and Policy Justification.

Dated: January 16, 2026.
Stephanie J. Bost,
Alternate OSD Federal Register Liaison Officer, Department of Defense.

BILLING CODE 6001-FR-P

BILLING CODE 6001-FR-C

Transmittal No. 25-50

Notice of Proposed Issuance of Letter of Offer Pursuant to Section 36(b)(1) of the Arms Export Control Act, as amended

(i) Prospective Purchaser: Government of Australia

(ii) Total Estimated Value:

Major Defense Equipment * | $ 0
Other | $404 million
TOTAL | $404 million

(iii) Description and Quantity or Quantities of Articles or Services under Consideration for Purchase: The Government of Australia has requested to buy equipment and services to support maintenance of its MC-55A aircraft fleet, to include:

Major Defense Equipment (MDE):

None

Non-Major Defense Equipment:

Major and minor modifications; spare parts; consumables and accessories; repair and return support; United States (U.S.) government and contractor engineering; technical, and logistics support services; and other related elements of logistics and program support.

(iv) Military Department: Air Force (AT-D-VAJ)

(v) Prior Related Cases, if any: AT-D-SAA and AT-D-SAB

(vi) Sales Commission, Fee, etc., Paid, Offered, or Agreed to be Paid: None known at this time

(vii) Sensitivity of Technology Contained in the Defense Article or Defense Services Proposed to be Sold: None

(viii) Date Report Delivered to Congress: August 6, 2025

* as defined in Section 47(6) of the Arms Export Control Act.

POLICY JUSTIFICATION

Australia—MC-55A Baseline 2 Upgrade

The Government of Australia has requested to buy equipment and services to support maintenance of its MC-55A aircraft fleet, to include major and minor modifications; spare parts; consumables and accessories; repair and return support; U.S. government and contractor engineering; technical, and logistics support services; and other related elements of logistics and program support. The estimated total cost is $404 million.

This proposed sale will support the foreign policy and national security objectives of the U.S. Australia is one of our most important allies in the Western Pacific. The strategic location of this political and economic power contributes significantly to ensuring peace and economic stability in the region. It is vital to the U.S. national interest to assist our ally in developing and maintaining a strong and ready self-defense capability.

The proposed sale will improve Australia's capability to maintain its fleet of MC-55A aircraft that enhances its ability to conduct effective air operations and supports U.S. operations in the region. Australia will have no difficulty absorbing these articles and services into its armed forces.

The proposed sale of this equipment and support will not alter the basic military balance in the region.

The principal contractor will be L3 Harris, located in Greenville, TX. At this time, the U.S. government is not aware of any offset agreement proposed in connection with this potential sale. Any offset agreement will be defined in negotiations between the purchaser and the contractor.

Implementation of this proposed sale will not require the assignment of any additional U.S. government or contractor representatives to Australia.

There will be no adverse impact on U.S. defense readiness as a result of this proposed sale.

[FR Doc. 2026-01126 Filed 1-21-26; 8:45 am]

BILLING CODE 6001-FR-P